DEPARTMENT OF THE INTERIOR

Bureau of Land Management

[LLIDT000000.L11200000.DD0000.241A.00]

Notice of Public Meetings, Twin Falls District Resource Advisory Council, ID

AGENCY: Bureau of Land Management, Interior.

ACTION: Notice of public meetings.

SUMMARY: In accordance with the Federal Land Policy and Management Act (FLPMA), the Federal Advisory Committee Act of 1972 (FACA), the U.S. Department of the Interior, Bureau of Land Management (BLM) Twin Falls District Resource Advisory Council (RAC) and subcommittee for the Greater sage-grouse will meet as indicated below.

DATES: On November 26 and December 10, the Twin Falls District RAC subcommittee members for the Greater sage-grouse will meet at the Twin Falls District BLM Office, 2536 Kimberly Road, Twin Falls, ID 83301. The meeting will begin at 6:00 p.m. and end no later than 9:00 p.m. The public comment period for the RAC subcommittee meeting will take place 6:10 p.m. to 6:40 p.m. On January 8, 2014, the Twin Falls District RAC will meet at the Sawtooth Best Western Inn, 2653 South Lincoln Ave., Jerome, Idaho. The meeting will begin at 9:00 a.m., and end no later than 4:30 p.m. The public comment period will take place from 9:10 a.m. to 9:40 a.m.

FOR FURTHER INFORMATION CONTACT: Heather Tiel-Nelson, Twin Falls District, Idaho, 2536 Kimberly Road, Twin Falls, Idaho 83301, (208) 736-2352.

SUPPLEMENTARY INFORMATION: The 15-member RAC advises the Secretary of the Interior, through the Bureau of Land Management, on a variety of planning and management issues associated with public land management in Idaho. During the November 26th and December 10th meetings, RAC subcommittee members will discuss the Idaho and Southwest Montana Sub-regional Draft Environmental Impact Statement during the January 8th meeting, RAC subcommittee members will report to the full RAC with their recommendations for the Draft EIS. There will also be a new member orientation for RAC members along with field manager reports, a budget outlook and wild horse issue update.

Additional topics may be added and will be included in local media announcements. More information is available at www.blm.gov/id/st/en/res/resource_advisory.3.html. RAC meetings are open to the public.

Dated: November 4, 2013.
Mel M. Meier,
District Manager.

[FR Doc. 2013-27224 Filed 11-13-13; 8:45 am]

BILLING CODE 4310-GG-P